DEPARTMENT OF ENERGY

Federal Energy Regulatory Commission

[Docket No. RP03-19-000]

Florida Gas Transmission Company; Notice of Tariff Filing

October 16, 2002.

Take notice that on October 11, 2002, Florida Gas Transmission Company (FGT) tendered for filing as part of its FERC Gas Tariff, Third Revised Volume No. 1, the following tariff sheet to become effective November 11, 2002:

[Fifth Revised Sheet No. 174]

FGT states that in the instant filing, it is proposing tariff revisions setting forth the criteria that would permit FGT to terminate a temporary capacity relinquishment. Specifically, in a new Section 18 L of FGT's General Terms and Conditions, Transporter's Right to Terminate a Temporary Capacity Relinquishment, FGT is proposing that FGT may elect to terminate a temporary capacity relinquishment upon 30-days' written notice if the relinquishing shipper has failed to maintain creditworthiness and the rate paid by the acquiring shipper is less than the relinquishing shipper's contract rate. Additionally, FGT is proposing that the acquiring shipper may avoid termination of the temporary capacity relinquishment by agreeing to pay for the remainder of the relinquishment the lower of the relinquishing shipper's contract rate or the maximum tariff rate under the applicable rate schedule. FGT believes the tariff revisions being proposed are similar to those recently approved by the Federal Energy Regulatory Commission.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-26957 Filed 10-22-02; 8:45 am]

BILLING CODE 6717-01-P